DEPARTMENT OF AGRICULTURE

Submission for OMB Review; Comment Request

November 21, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Farm to School Census.

OMB Control Number: 0536—NEW.

Summary of Collection: Section 243 of the Healthy, Hunger-Free Kids Act (HHFKA) of 2010 (Pub. L. 111-296) directed USDA to establish a Farm to School program in order to assist eligible entities through grants and technical assistance, in implementing farm to school programs that improve the access to local foods in eligible schools. Under 7 U.S.C. 427, the Secretary of Agriculture is authorized and directed to conduct and to stimulate research into the laws and principles underlying the basic problems of agriculture in its broadest aspects, including but limited to research relating to the improvement of the quality of, and the development of new and improved methods of the production, marketing, distribution, processing, and utilization of plant and animal commodities at all stages from the original producer through the ultimate consumer. The Farm to School Census is a new, one-time, data collection. A questionnaire on purchases of local foods and other farm to school related activities will be sent to public school district School Food Authorities (SFA) in the 50 United States and the District of Columbia.

Need and Use of the Information: USDA's Farm to School Program will use data from the Farm to School Census to develop a baseline assessment of farm to school programs and to set priorities for USDA outreach and technical support, as mandated by the HHFKA. The Farm to School Census will also be used to establish a baseline measure of local food purchases in schools and set priorities for USDA programming related to local school food sourcing. The Farm to School Census data will be used in mapping SFAs that procured local foods for school meal programs in 2011-12 in order to characterize the geographic distribution farm to school programs and obtain State-level estimates of the prevalence of local procurement among SFAs.

Description of Respondents: State, Local or Tribal Government.

Number of Respondents: 13,680.

Frequency of Responses: Reporting: On occasion.

Total Burden Hours: 1,901.

Ruth Brown,
Departmental Information Collection Clearance Officer.

[FR Doc. 2012-28834 Filed 11-27-12; 8:45 am]

BILLING CODE 3410-18-P